DEPARTMENT OF HEALTH AND HUMAN SERVICES

National Institutes of Health

National Cancer Institute; Amended Notice of Meeting

Notice is hereby given of a change in the meeting of the National Cancer Institute Special Emphasis Panel, October 15, 2003, 6:00 PM to October 17, 2003, 12:00 PM, The Belvedere Hotel, 319 West 48th Street, New York, NY, 10036 which was published in the Federal Register on August 26, 2003, 68 FR 51282.

This meeting is amended due to the change of the meeting location to W Hotels of New York, 130 East 39th Street, New York NY 10016. The meeting is closed to the public.

Dated: October 14, 2003.
LaVerne Y. Stringfield,
Director, Office of Federal Advisory Committee Policy.

[FR Doc. 03-26595 Filed 10-21-03; 8:45 am]

BILLING CODE 4140-01-M